DEPARTMENT OF DEFENSE

Office of the Secretary

[Docket ID: DOD-2008-OS-0154]

Privacy Act of 1974; Systems of Records

AGENCY: Defense Finance and Accounting Service, DoD.

ACTION: Notice to add a new system of records.

SUMMARY: The Defense Finance and Accounting Service (DFAS) is proposing to add a system of records notice to its inventory of record systems subject to the Privacy Act of 1974, (5 U.S.C. 552a), as amended.

DATES: This action will be effective without further notice on January 12, 2009 unless comments are received that would result in a contrary determination.

ADDRESSES: Send comments to the FOIA/PA Program Manager, Corporate Communications and Legislative Liaison, Defense Finance and Accounting Service, 8899 E. 56th Street, Indianapolis, IN 46249-0150.

FOR FURTHER INFORMATION CONTACT: Ms. Linda Krabbenhoft at (303) 589-3510.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on December 4, 2008, to the House Committee on Government Reform, the Senate Committee on Homeland Security and Governmental Affairs, and the Office of Management and Budget (OMB) pursuant to paragraph 4c of Appendix I to OMB Circular No. A-130, “Federal Agency Responsibilities for Maintaining Records About Individuals”, dated December 12, 2000, 65 FR 239.

Dated: December 8, 2008.
Morgan E. Frazier,
Alternate OSD Federal Register Liaison Officer, Department of Defense.

T7300c

SYSTEM NAME:

Corporate Electronic Document Management System (CEDMS).

SYSTEM LOCATION:

Document Automation and Production Services (DAPS), 5450 Carlisle Pike, Building 410, Mechanicsburg, PA 17050-2411.

Document Automation and Production Services (DAPS), 8000 Jefferson Davis Highway, Richmond, VA 23237-4480.

Defense Finance and Accounting Service, 1931 S. Bell Street, Arlington, VA 22240-0001.

Defense Finance and Accounting Service, 8899 E. 56th Street, Indianapolis, IN 46249-6700.

Defense Finance and Accounting Service, 3990 East Broad Street, Columbus, OH 43213-2317.

Defense Finance and Accounting Service, 1240 E. Ninth Street, Cleveland, OH 44199-2055.

Defense Finance and Accounting Service, 325 Brooks Road, Rome, NY 13441-4527.

Defense Finance and Accounting Service, 27 Arkansas Road, Limestone, ME 04751-6216.

CATEGORIES OF INDIVIDUALS COVERED BY THE SYSTEM:

Active duty, Reserve, National Guard, retired and separated Army, Air Force, Navy and Marine Corps, military members and their dependents. Department of Defense civilian employees and other civilian employees who are paid by the Defense Finance and Accounting Service consolidated civilian payroll offices such as, Department of Energy, Department of Veterans Affairs, Environmental Protection Agency, Health and Human Services, Broadcasting Board of Governors and Executive Office of the President. Non-government civilians who have been issued invitational travel orders.

CATEGORIES OF RECORDS IN THE SYSTEM:

The following areas within the Defense Finance and Accounting Service will utilize the Corporate Electronic Document Management System (CEDMS) for storage of source documents: garnishments, military pay, debt and claims, allotments, travel, and the source documents may include the following documents:

Individual state court wage withholding notices or court order garnishment orders, interrogatories, correspondence between DFAS Office of General Counsel and parties to the case, DFAS pay units, United States Attorneys, United States District Courts and other State and Government agencies relevant to the processing of child support and commercial debt garnishment, applications under the Uniformed Services Former Spouses' Protection Act and applications for military involuntary allotments for commercial debt. Also bankruptcy trustee information for those who receive payments pursuant to Chapter 13 of the Bankruptcy Code.

Individual's pay and leave records; source documents for posting of time and leave attendance; individual retirement deduction records, source documents, and control files; wage and separation information files; health benefit records; income tax withholding records; allowance and differential eligibility files, such as, but not limited to clothing allowances and night rate differentials; withholding and deduction authorization files, such as, but not limited to federal income tax withholding, insurance and retirement deductions; accounting documents files, input data posting media, including personnel actions affecting pay; accounting and statistical reports and computer edit listings; claims and waivers affecting pay; control logs and collection/disbursement vouchers; listings for administrative purposes, such as, but not limited to health insurance, life insurance, bonds, locator files, and checks to financial institutions; correspondence with the civilian personnel office, dependents, attorneys, survivors, insurance companies, financial institutions, and other governmental agencies; leave and earnings statements; separation documents; official correspondence; federal, state, and city tax reports, forms covering pay changes and deductions; and documentation pertaining to garnishment of wages.

Individual's name, pay grade, Social Security Number (SSN), date of birth, gender, pay dates, leave account information, rank, enlistment contract or officer acceptance form identification, duty information (duty station, personnel assignment, and unit), security investigation, combat tours, temporary active duty data, years in service, promotional data, master military pay account (MMPA) records, leave and earnings statements (LESs), substantiating pay and allowance entitlements, deductions, or collection actions.

Pay entitlements and allowances: Base pay, allowances (such as basic allowance for subsistence, basic allowance for quarters, family separation, clothing maintenance and monetary allowances), special compensation for positions such as medical, dental, veterinary, and optometry, special pay and bonus, such as foreign duty, proficiency, hostile fire, incentive pay such as parachute duty, and other entitlements in accordance with the DoD Financial Management Regulations, Volume 7A, 7000.14-R. Deductions from pay: Indebtedness and collection information.

Duty Status: Status adjustments relating to leave, entrance on active duty, absent without leave, confinement, desertion, sick or injured, mentally incompetent, missing, interned, promotions and demotions, and separation document code.

Supporting Documentation: Includes, but is not limited to, travel orders and requests; payroll attendance lists and rosters; document records establishing, supporting, reducing, or canceling entitlement; certificates and statements changing address, name, military assignment, and other individual data necessary to identify and provide accurate and timely military pay and performance credit; allotment start, stop, or change records; declarations of benefits and waivers; military pay and personnel orders; medical certifications and determinations; death and disability documents; check issuing and cancellation records and schedules; payroll vouchers; money lists and accounting records; pay adjustment authorization records; system input certifications; member indebtedness and tax levy documentation; earnings statements; employees' wage and tax reports and statements; casual payment authorization and control logs; and other documentation authorizing or substantiating Active and Reserve/Guard Component military pay and allowances, entitlement, deductions, or collections. Also inquiry files, sundry lists, reports, letters, correspondence, and rosters including, but not limited to, Congressional inquiries, Internal Revenue Service notices and reports, state tax and insurance reports, Social Security Administration reports, Department of Veterans Affairs reports, inter-DoD requests, Treasury Department reports, and health education and institution inquiries.

AUTHORITY FOR MAINTENANCE OF THE SYSTEM:

5 U.S.C. 301, Departmental Regulations; 31 U.S.C. Sections 3325, 3511, 3512, 3513; Department of Defense Financial Management Regulation (DoDFMR) 7000.14R, and E.O. 9397 (SSN).

PURPOSE(S):

To accommodate the administrative requirements to include document management, recordkeeping, record retrieval, record staging, and document security for scanning, indexing and managing various types of DFAS hard copy source documents to include garnishments, military pay, debts and claims, allotments, and travel.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To the Social Security Administration and Office of Personnel Management to credit the employee's account for Federal Insurance Contributions Act or Civil Service Retirement withheld;

To the National Finance Center, Office of Thrift Savings Plan for participating employees;

To any agency or component thereof, that needs the information for proper accounting of funds, such as, but not limited to the Office of Personnel Management to assist in resolving complaints, grievances, etc., and to compute Civil Service Retirement annuity;

To the Department of Energy for payroll, debt, claims, or garnishment inquires for those employees paid by DFAS.

To the Department of Veterans Affairs for payroll, debt, claims, or garnishment inquiries for those employees paid by DFAS.

To Health and Human Services for payroll, debt, claims, or garnishment inquiries for those employees paid by DFAS.

To the Environmental Protection Agency for payroll, debt, claims, or garnishment inquiries for those employees paid by DFAS.

To the Broadcasting Board of Governors for payroll, debt, claims, or garnishment inquiries for those employees paid by DFAS.

To the Executive Office of the President for payroll, debt, or garnishment inquiries for those employees paid by DFAS.

POLICIES AND PRACTICES FOR STORING, RETRIEVING, ACCESSING, RETAINING, AND DISPOSING OF RECORDS IN THE SYSTEM:

STORAGE:

Paper records and on electronic storage media.

RETRIEVABILITY:

Name and Social Security Number (SSN).

SAFEGUARDS:

Records are stored in an office building protected by guards, controlled screening, use of visitor registers, electronic access, and/or locks. Access to records is limited to individuals who are properly screened and cleared on a need to know basis in the performance of their duties. Passwords and digital signatures are used to control access to the system data, and procedures are in place to deter and detect browsing and unauthorized access. Physical and electronic access are limited to persons responsible for servicing and authorized to use the system.

RETENTION AND DISPOSAL:

Hard copy source records are cut off when information has been converted to electronic medium and verified, or when no longer needed to support the reconstruction of, or serve as the backup to the master file, whichever is later. Hardcopy records are destroyed by burning, or shredding. Electronic records are destroyed by degaussing.

SYSTEM MANAGER(S) AND ADDRESS:

Corporate Electronic Document Management System Program Manager, Defense Finance and Accounting Service, Information and Technology Services, 1931 S. Bell Street, Arlington, VA 22240-0001.

NOTIFICATION PROCEDURES:

Individuals seeking to determine whether information about themselves is contained in this system of records should address written inquiries to the Defense Finance and Accounting Service, Freedom of Information/Privacy Act Program Manager, Corporate communications and Legislative Liaison, 8899 56th Street, Indianapolis, IN 46249-0150.

Requests should contain individual's name, Social Security Number (SSN), current address, and telephone number.

RECORD ACCESS PROCEDURES:

Individuals seeking to determine whether information about themselves is contained in this system of records should address written inquiries to the Defense Finance and Accounting Service, Freedom of Information/Privacy Act Program Manager, Corporate Communications and Legislative Liaison, 8899 E. 56th Street, Indianapolis, IN 46249-0150.

Requests should contain individual's name, Social Security Number (SSN), current address, and telephone number.

CONTESTING RECORD PROCEDURES:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th St., Indianapolis, IN 46249-0150.

RECORD SOURCE CATEGORIES:

From the individual, DoD Components such as, Army, Navy, Air Force and Marine Corps, Office of Personnel Management, and other government agencies whose civilian employees are paid by the Defense Finance and Accounting Service such as the Department of Energy, Department of Veterans Affairs, Health and Human Services, Environmental Protection Agency.

EXEMPTIONS CLAIMED FOR THE SYSTEM:

None.

[FR Doc. E8-29383 Filed 12-11-08; 8:45 am]

BILLING CODE 5001-06-P